ENVIRONMENTAL PROTECTION AGENCY

40 CFR Part 52

[EPA-R09-OAR-2010-0743; FRL-9209-9]

Revisions to the California State Implementation Plan; Sacramento Metropolitan Air Quality Management District

AGENCY: Environmental Protection Agency (EPA).

ACTION: Proposed rule.

SUMMARY: EPA is proposing to approve a revision to the Sacramento Metropolitan Air Quality Management District's portion of the California State Implementation Plan (SIP). This revision concerns emissions of oxides of nitrogen (NOX) from the landfill gas flare at the Kiefer Landfill in Sacramento, California. We are proposing to approve portions of a Permit to Operate that limit NOX emissions from this facility under the Clean Air Act as amended in 1990 (CAA or the Act). We are taking comments on this proposal and plan to follow with a final action.

DATE: Any comments must arrive by November 4, 2010.

ADDRESSES: Submit comments, identified by docket number EPA-R09-OAR-2010-0743, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Mae Wang, EPA Region IX, (415) 947-4124, wang.mae@epa.gov.

SUPPLEMENTARY INFORMATION: Throughout this document, “we,” “us” and “our” refer to EPA.

Table of Contents

I. The State's Submittal

A. What did the State submit?

B. Are there other versions of this document?

C. What is the purpose of the submitted document?

II. EPA's Evaluation and Action

A. How is EPA evaluating the submitted document?

B. Does the submitted document meet the evaluation criteria?

C. Public Comment and Final Action

III. Statutory and Executive Order Reviews

I. The State's Submittal

A. What did the State submit?

On October 26, 2006, the Sacramento Metropolitan Air Quality Management District (SMAQMD) adopted the “Ozone State Implementation Plan Revision, Reasonably Available Control Technology (RACT) as Applicable to the 8-Hour Ozone Standard.” The California Air Resources Board (CARB) submitted this SIP revision to EPA on July 11, 2007. This SIP submittal included portions of the Permit to Operate for the Kiefer Landfill, which is a major source of NOX emissions operated by the County of Sacramento Department of Waste Management and Recycling. The submitted portions of the Permit to Operate for the Kiefer Landfill (Permit No. 17359), which was issued by the SMAQMD, relate to the control of NOX emissions from the air pollution control landfill gas flare. The SMAQMD originally issued Permit No. 17359 on August 7, 2006, and later revised it on November 13, 2006. We are proposing to act on the submitted portions of Permit No. 17359, as revised on November 13, 2006.

On January 11, 2008, the SIP revision for SMAQMD was deemed by operation of law to meet the completeness criteria in 40 CFR part 51 appendix V, which must be met before formal EPA review.

B. Are there other versions of this document?

There are no previous versions of SMAQMD Permit No. 17359 that have been submitted or approved into the California SIP.

C. What is the purpose of the submitted document?

NOX helps produce ground-level ozone, smog and particulate matter, which harm human health and the environment. Section 110(a) of the CAA requires States to submit regulations that control NOX emissions. Additionally, the Sacramento Metropolitan Area is designated and classified as a severe-15 nonattainment area for the 8-hour ozone National Ambient Air Quality Standard (NAAQS). 40 CFR 81.305; 75 FR 24409 (May 5, 2010).¹ Accordingly, the SMAQMD is required to submit a revision to the SIP that meets the Reasonably Available Control Technology (RACT) requirements for major sources of NOX emissions in CAA sections 182(b)(2) and 182(f). Permit No. 17359 limits emissions of NOX from the landfill gas flare at the Kiefer Landfill, which is a major source of NOX emissions.²

¹ The Sacramento Metropolitan area was initially classified as a “serious” nonattainment area for the 8-hour ozone NAAQS. 69 FR 23858 (April 30, 2004). On May 5, 2010, EPA granted California's request for voluntary reclassification of this area from “serious” to “severe-15,” and this reclassification became effective June 4, 2010.

² Although the District adopted these permit conditions to satisfy the major source RACT requirement in “serious” ozone nonattainment areas (based on a 50 ton per year (tpy) threshold), the RACT requirement for this source remains unaffected by the reclassification of the area to “severe-15.” This is because a major source in a serious ozone nonattainment area (based on a 50 tpy threshold) is, by definition, also a major source in a severe-15 ozone nonattainment area (based on a 25 tpy threshold). CAA 182(c), (d). Thus, under both classifications, the Kiefer Landfill is subject to the RACT requirement in CAA 182(b)(2) and 182(f).

II. EPA's Evaluation and Action

A. How is EPA evaluating the submitted document?

Generally, SIP obligations must be enforceable (see section 110(a) of the Act), must require RACT for each category of sources covered by a Control Techniques Guidelines (CTG) document as well as each NOX or volatile organic compound (VOC) major source in nonattainment areas classified as moderate or above (see sections 182(b)(2) and 182(f)), and must not relax existing requirements (see sections 110(l) and 193). The SMAQMD regulates an ozone nonattainment area classified as severe-15 for the 8-hour ozone NAAQS (40 CFR 81.305) and the Kiefer Landfill is a major source of NOX. Therefore, the Kiefer Landfill must implement RACT.

Guidance and policy documents that we use to evaluate enforceability and RACT requirements consistently include the following:

1. “State Implementation Plans; General Preamble for the Implementation of Title I of the Clean Air Act Amendments of 1990,” 57 FR 13498 (April 16, 1992); 57 FR 18070 (April 28, 1992).

2. “State Implementation Plans; Nitrogen Oxides Supplement to the General Preamble; Clean Air Act Amendments of 1990 Implementation of Title I; Proposed Rule,” (the NOX Supplement), 57 FR 55620, November 25, 1992.

3. “Issues Relating to VOC Regulation Cutpoints, Deficiencies, and Deviations,” EPA, May 25, 1988 (the Bluebook).

4. “Guidance Document for Correcting Common VOC & Other Rule Deficiencies,” EPA Region 9, August 21, 2001 (the Little Bluebook).

B. Does the document meet the evaluation criteria?

We are proposing to approve the submitted conditions of SMAQMD Permit No. 17359 into the SMAQMD portion of the California SIP because they satisfy the applicable CAA requirements for approval. Specifically, we propose to approve permit conditions 1, 6, 10, 11, 16, 20, 27, 28, and 29, or portions thereof, which together establish an enforceable NOX limitation satisfying RACT for the air pollution control landfill gas flare at the Kiefer Landfill. The NOX limitation contained in the permit is consistent with the limitations contained in California district rules and emission factor data related to landfill flares. Because the applicable SIP currently does not contain NOX limitations for the Kiefer Landfill gas flare, the approval of these permit conditions strengthens the SIP. Emissions of volatile organic compounds from the Kiefer landfill are not addressed by today's action. In sum, the submitted permit conditions satisfy the applicable requirements and guidance regarding enforceability, RACT, and SIP relaxations and may, therefore, be approved into the California SIP. Please see the docket for a copy of the complete submitted document.

C. Public Comment and Final Action

Because EPA believes the specific conditions of SMAQMD Permit No. 17359, as submitted by CARB on July 11, 2007, fulfill all relevant requirements, we are proposing to fully approve them as described in section 110(k)(3) of the Act. We will accept comments from the public on this proposal for the next 30 days. Unless we receive convincing new information during the comment period, we intend to publish a final approval action that will incorporate these permit conditions into the federally-enforceable SIP.

III. Statutory and Executive Order Reviews

Under the CAA, the Administrator is required to approve a SIP submission that complies with the provisions of the Act and applicable federal regulations. 42 U.S.C. 7410(k); 40 CFR 52.02(a). Thus, in reviewing SIP submissions, EPA's role is to approve State choices, provided that they meet the criteria of the CAA. Accordingly, this action merely approves State law as meeting federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Nitrogen dioxide, Ozone, Reporting and recordkeeping requirements.

Authority: 42 U.S.C. 7401 et seq.

Dated: September 21, 2010.
Jared Blumenfeld,
Regional Administrator, Region IX.

[FR Doc. 2010-24917 Filed 10-4-10; 8:45 am]

BILLING CODE 6560-50-P